DEPARTMENT OF ENERGY

Federal Energy Regulatory Commission

[Docket No. RP96-383-038]

Dominion Transmission, Inc.; Notice of Negotiated Rate Filing

February 22, 2002.

Take notice that on February 15, 2002, Dominion Transmission, Inc. (DTI) submitted the following tariff sheets disclosing a negotiated rate transaction:

Eighth Revised Sheet No. 1300

Original Sheet No. 1419

First Revised Sheet No. 1419

Sheet Nos. 1420-1499

DTI states that the tariff sheets relate to a negotiated rate transaction between DTI and Dominion Field Services, Inc. (Field Services). DTI inherited a service agreement between Conoco, Inc. and Great Lakes Gas Transport, LLC when it acquired gas transportation facilities from Great Lakes Gas Transport, LLC effective November 1, 2001. Conoco, Inc., after approval of the merger, assigned its rights and obligations under the agreement to Field Services. The tariff sheets are being filed to reflect the resulting agreement. Because the service agreement does not conform to the Form of Service Agreement contained in DTI's tariff, these tariff sheets are being filed to report a possible non-conforming service agreement. DTI requests an effective date of November 1, 2001 for Sheet Nos. 1419 and an effective date of February 16, 2002 for Eighth Revised Sheet No. 1300 and Sheet Nos. 1420-1499.

DTI states that copies of its filing have been served upon DTI's customers and interested state commissions. DTI also states that copies of its filing are available for public inspection during regular business hours, at DTI's offices in Clarksburg, West Virginia.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-4763 Filed 2-27-02; 8:45 am]

BILLING CODE 6717-01-P